SECURITIES AND EXCHANGE COMMISSION

[File No. 500-1]

In the Matter of Global Leadership Institute, Inc.; Order of Suspension of Trading

March 11, 2015.

It appears to the Securities and Exchange Commission (“Commission”) that there is a lack of current and accurate information concerning the securities of Global Leadership Institute, Inc., formerly known as Cephas Holding Corp., (CIK No. 0001061169) (“Global”), because Global is delinquent in its periodic filings, having not filed any periodic reports since it filed a Form 10-Q for the period ended September 30, 2013 on March 21, 2014, which reported a net loss of $753,092 for the prior nine months. Global is a Delaware corporation located in Ann Arbor, Michigan with a class of securities registered with the Commission pursuant to Section 12(g) of the Securities Exchange Act of 1934 (“Exchange Act”). The company's stock has experienced a recent substantial increase in both price and trading volume. The Commission is of the opinion that the public interest and the protection of investors require a suspension of trading in the securities of Global.

Therefore, it is ordered, pursuant to Section 12(k) of the Exchange Act, that trading in the securities of Global Leadership Institute, Inc. is suspended for the period from 9:30 a.m. EDT on March 11, 2015, through 11:59 p.m. EDT on March 24, 2015.

By the Commission.
Lynn M. Powalski,
Deputy Secretary.

[FR Doc. 2015-05891 Filed 3-11-15; 11:15 am]

BILLING CODE 8011-01-P